COMMITTEE FOR THE IMPLEMENTATION OF TEXTILE AGREEMENTS

Amendment of Limitation of Duty- and Quota-Free Imports of Apparel Articles Assembled in Beneficiary Sub-Saharan African Countries from Third-Country Fabric

January 23, 2007.

AGENCY: Committee for the Implementation of Textile Agreements (CITA).

ACTION: Amending the 12-Month Cap on Duty- and Quota-Free Benefits.

EFFECTIVE DATE: January 29, 2007.

FOR FURTHER INFORMATION CONTACT: Anna Flaaten, International Trade Specialist, Office of Textiles and Apparel, U.S. Department of Commerce, (202) 482-3400.

SUPPLEMENTARY INFORMATION:

Authority: Title I, Section 112(b)(3) of the Trade and Development Act of 2000, as amended by Section 3108 of the Trade Act of 2002, Section 7(b)(2) of the AGOA Acceleration Act of 2004, and Section 6002 of the Tax Relief and Health Care Act of 2006 (TRHCA 2006); Presidential Proclamation 7350 of October 4, 2000 (65 FR 59321); Presidential Proclamation 7626 of November 13, 2002 (67 FR 69459).

Title I of the Trade and Development Act of 2000 (TDA 2000) provides for duty- and quota-free treatment for certain textile and apparel articles imported from designated beneficiary sub-Saharan African countries. Section 112(b)(3) of TDA 2000 provides duty-and quota-free treatment for apparel articles wholly assembled in one or more beneficiary sub-Saharan African countries from fabric wholly formed in one or more beneficiary countries from yarn originating in the U.S. or one or more beneficiary countries. This preferential treatment is also available for apparel articles assembled in one or more lesser-developed beneficiary sub-Saharan African countries, regardless of the country of origin of the fabric used to make such articles, subject to quantitative limitation. Title VI of the TRHCA 2006 extended this special rule for lesser-developed countries through September 30, 2012. Further, this Act amended the percentage to be used in calculating the quantitative limitation for preferential treatment available for apparel articles entered under this special rule for lesser-developed Countries for the 12-month period beginning on October 1, 2006 and extending through September 30, 2007. See Limitations of Duty-and Quota-Free Imports of Apparel Articles Assembled in Beneficiary Sub-Saharan African Countries from Regional and Third-Country Fabric, published in the Federal Register on September 26, 2006 (71 FR 56112).

Title VI of the TRHCA 2006 provides that the quantitative limitation for apparel imported under the special rule for lesser-developed countries for the twelve-month period beginning October 1, 2006 will be an amount not to exceed 3.5 percent of the aggregate square meter equivalents of all apparel articles imported into the United States in the preceding 12-month period for which data are available. See Section 6002(a) of TRHCA 2006. Presidential Proclamation 7350 directed CITA to publish the aggregate quantity of imports allowed during each 12-month period in the Federal Register. The purpose of this notice is to amend the quantitative limitation previously published in the Federal Register on September 26, 2006 (71 FR 56112).

For the one-year period, beginning on October 1, 2006, and extending through September 30, 2007, the aggregate quantity of imports eligible for preferential treatment under the provision for apparel articles wholly assembled in one or more beneficiary sub-Saharan African countries from fabric wholly formed in one or more beneficiary countries from yarn originating in the U.S. or one or more beneficiary countries is 1,498,846,694 square meters equivalent. Of this amount, 815,001,892 square meters equivalent is available to apparel articles imported under the special rule for lesser-developed countries. Apparel articles entered in excess of these quantities will be subject to otherwise applicable tariffs.

These quantities are calculated using the aggregate square meter equivalents of all apparel articles imported into the United States, derived from the set of Harmonized System lines listed in the Annex to the World Trade Organization Agreement on Textiles and Clothing (ATC), and the conversion factors for units of measure into square meter equivalents used by the United States in implementing the ATC.

R. Matthew Priest,
Chairman, Committee for the Implementation of Textile Agreements.

[FR Doc. 07-350 Filed 1-24-07; 1:41 pm]

BILLING CODE 3510-DS-S